DEPARTMENT OF COMMERCE

National Oceanic and Atmospheric Administration

RIN 0648-XZ21

Notice of Availability of a Final Programmatic Environmental Impact Statement for Hawaiian Monk Seal Recovery Actions

AGENCY: National Marine Fisheries Service (NMFS), National Oceanic and Atmospheric Administration (NOAA), Commerce.

ACTION: Notice of Availability of a Final Programmatic Environmental Impact Statement; Request for Comments.

SUMMARY: NMFS announces the availability of the “Final Programmatic Environmental Impact Statement (PEIS) for Hawaiian monk seal Recovery Actions.” Publication of this notice begins the official public comment period for the Final PEIS. The purpose of the Final PEIS is to evaluate, in compliance with the National Environmental Policy Act (NEPA), the potential direct, indirect, and cumulative impacts on the human environment from implementing the alternative approaches for funding, undertaking, and permitting research and enhancement activities on Hawaiian monk seals (Monachus schauinslandi).

DATES: Written comments must be received on or before May 12, 2014. While NMFS is not required to respond to comments received on the Final PEIS, we will review and consider them prior to issuing a Record of Decision. The Record of Decision will include information on the alternatives considered, the preferred alternative and why we chose it, and required mitigation and monitoring.

ADDRESSES: Comments on the Final PEIS for this action may be submitted by:

• Email: monkseal@noaa.gov.

• Fax: 301-713-0376.

• Mail: NOAA, NMFS, 1315 East-West Highway, SSMC3, F/PR1, Room 13715, Silver Spring, MD 20910 (ATTN: Monk Seal PEIS).

FOR FURTHER INFORMATION CONTACT: Amy Sloan (301-427-8401, monkseal@noaa.gov).

SUPPLEMENTARY INFORMATION: NMFS is the Federal agency responsible for management, recovery and conservation of Hawaiian monk seals under the Endangered Species Act (ESA; 16 United States Code [U.S.C.] 1531 et seq.) and the Marine Mammal Protection Act (MMPA; 16 U.S.C. 1361 et seq.). As part of their responsibilities, NMFS funds, permits, and conducts research and enhancement activities on endangered Hawaiian monk seals in the Northwestern Hawaiian Islands (NWHI), main Hawaiian Islands (MHI), and at Johnston Atoll. NMFS proposes to implement research and enhancement actions identified in the 2007 Hawaiian Monk Seal Recovery Plan, with the goal of conserving and recovering the species. This Final PEIS provides decision-makers and the public with an evaluation of the environmental, social, and economic effects of the proposed recovery actions and alternatives.

The agency's recommended Preferred Alternative is Alternative 3 (Limited Translocation). Alternative 3 encompasses a broad scope of research and enhancement activities that would yield greater recovery benefits to the species over the next several years than would be expected under the other alternatives. It is important to note that while Alternative 4 (Enhanced Implementation) was Preferred in the Draft PEIS, Alternative 3 has been selected as the Preferred Alternative in the Final PEIS. The only distinction between these two Alternatives is that Alternative 3 (Preferred) does not include any translocation option that would involve taking seals born in the NWHI and releasing them in the MHI.

Background

The Hawaiian monk seal is a critically endangered species found only in the U.S., within the Hawaiian Archipelago and at Johnston Atoll. The population is estimated to have around 1,200 individuals and is declining by roughly 4% each year. Since the 1980's, NMFS has conducted research to understand, and enhancement activities to mitigate, threats to the survival of monk seals. Most of this work has been in the NWHI where the majority of seals live and breed. More recently, a natural increase in the number of seals in the MHI has prompted researchers and managers to begin studying and aiding seals in the MHI.

Despite measures taken to save the monk seal, the species is not showing signs of recovery. In the NWHI, young seals are continuing to starve to death, nursing and newly weaned pups are being killed by sharks, seals are getting entangled in marine debris, and sea level rise threatens terrestrial habitats. Low juvenile survival over the past two decades is the primary cause of the population's decline. There is insufficient recruitment into the breeding population, and the population decline will likely continue without additional intervention.

On October 1, 2010, NMFS provided public notice (75 FR 60721) that it would prepare a PEIS to assess the impacts of implementing specific management actions and administering a research and enhancement program to improve survival of Hawaiian monk seals. The 45-day public scoping period was extended 15 days (75 FR 69398) and ended November 30, 2010. As part of scoping, NMFS hosted public meetings to introduce the project proposal, describe the PEIS process, and solicit input on the issues and alternatives to be evaluated. Public scoping meetings were held in October 2010 on the islands of O`ahu, Hawai`i, Maui, Moloka`i, and Kaua`i. During the scoping comment period, 139 public comments were received. The Scoping Report is available on the project Web site: http://www.nmfs.noaa.gov/pr/permits/eis/hawaiianmonkseal.htm.

On August 19, 2011, NMFS provided public notice (76 FR 51945) that the Draft PEIS for Hawaiian Monk Seal Recovery Actions was available for public comment, and the Draft PEIS was released for public review on the project Web site listed above. The public comment period ended on October 17, 2011. A total of 341 comment submissions were received from agencies and the public on the Draft PEIS. These submissions generated 1,180 substantive comments. Comments received during the scoping process and public comment period on the Draft PEIS raised issues that have been addressed or incorporated in the Final PEIS. A Comment Analysis Report is included in Appendix C to the Final PEIS and is available on the project Web site listed above. This report includes public comments received, NMFS' responses, and where in the PEIS the comments are addressed or revisions are made.

Alternatives

NMFS has evaluated a preferred alternative (Alternative 3) and three others in the Final PEIS. These are summarized as follows:

Alternative 1: Status Quo Alternative: Under the Status Quo Alternative, research and enhancement activities would be carried out as currently permitted under the MMPA and ESA. New permits could be issued in the future to maintain the current levels of research and enhancement activities. Some elements of this alternative include:

• Monitoring via ground, vessel, and aerial surveys;

• Marking and photo ID;

• Health screening and instrumentation;

• De-worming research;

• Specimen collection and import/export of specimens;

• Disentanglement and dehooking;

• Adult male removal for enhancement; and

• Translocation for enhancement including:

○ Translocating abandoned nursing pups to a prospective foster mother or their natural mother within their birth island or atoll;

○ Translocating weaned pups from a high risk area (e.g., known shark predation) to a low risk area within the same island or atoll in the NWHI or Johnston Atoll; translocations in the MHI may be to a different location on the same island or to a different island in the MHI;

○ Translocating weaned pups in subpopulations where juvenile survival is low to subpopulations with higher rates of juvenile survival; seals may only be translocated among subpopulations within the NWHI.

No new activities or expanded scope of existing activities would occur under the Status Quo Alternative.

Alternative 2: No Action: Under this alternative, the above-mentioned permitted research and enhancement activities would stop in June 2014 when the current permit expires. At that time, all research and enhancement activities that require a permit would cease except for those activities covered by the NMFS Marine Mammal Health and Stranding Response Program, such as responding to stranded, injured, or entangled seals in need of intervention.

Alternative 3: Limited Translocation (Preferred Alternative): Alternative 3 includes activities described in the Status Quo as well as new and expanded activities. The new and expanded activities include, but are not limited to:

• Vaccination studies and potential implementation of a vaccination program to prevent or mitigate infectious disease.

• Potential implementation of de-worming as an enhancement tool to improve juvenile Hawaiian monk seal survival.

• Expanded scope and number of seal translocations in addition to those in the status quo, including:

• Taking seals with unmanageable human interactions from the MHI to NWHI.

• Taking juvenile and older seals from the MHI to NWHI to examine their subsequent survival.

• Implementing a two-stage translocation program whereby weaned pups are taken from areas of lower survival to areas of higher survival (within the NWHI, within the MHI, or from the MHI to NWHI, but not from the NWHI to MHI), with the option of returning them to their natal location or nearest appropriate site at age 2 years and older. Note that seals originally born in the MHI and translocated to the NWHI may be returned to the MHI.

• Supplemental feeding of monk seals in NWHI locations where seals are released after being cared for in captivity (post-rehabilitation).

• Research to develop tools for modifying undesirable Hawaiian monk seal behavior related to interactions with humans and fishing gear in the MHI. If proven effective by research, these tools would be implemented.

• Chemical alteration of aggressive male monk seal behavior using a drug to reduce testosterone.

Alternative 4: Enhanced Implementation: The only difference between Alternative 4 and Alternative 3 (Preferred) is that Alternative 4 would also allow for two-stage translocation of weaned pups from the NWHI to the MHI and their subsequent return at age 2 or 3 years to the NWHI. The ability under Alternative 4 to conduct two-stage translocation from the NWHI to the MHI would allow for maximal flexibility to take advantage of the potential benefits of two-stage translocation, because weaned pups could be moved to wherever their survival chances are best. However, implementing two-stage translocations from the NWHI to the MHI would be infeasible at this time. NWHI pups, once brought to the MHI, could become involved in fishery and other human interactions, just as has occurred among some seals born in the MHI. Capacity and techniques for monitoring translocated seals, and intervening to prevent and mitigate such interactions, must be further developed before this action can be conducted without risking failure as measured both in terms of seal survival and public attitudes toward monk seal conservation. Thus, while Alternative 4 was the preferred alternative in the Draft PEIS, it is not the preferred alternative in the Final PEIS.

Authority: 16 U.S.C. 1361 et seq. and 16 U.S.C. 1531 et seq.

Dated: April 4, 2014.
Samuel D. Rauch III,
Deputy Assistant Administrator for Regulatory Programs, National Marine Fisheries Service.

[FR Doc. 2014-08207 Filed 4-10-14; 8:45 am]

BILLING CODE 3510-22-P